DEPARTMENT OF COMMERCE

National Telecommunications and Information Administration

Proposed Information Collection; Comment Request; Performance Reporting System (PRS) for the Technology Opportunities Program (TOP)

ACTION: Notice.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506(c)(2)(A)).

DATES: Written comments must be submitted on or before March 14, 2005.

ADDRESSES: Direct all written comments to Diana Hynek, Departmental Paperwork Clearance Officer, Department of Commerce, Room 6625, 1401 Constitution Avenue, NW., Washington, DC 20230 (or via the Internet dHynek@doc.gov).

FOR FURTHER INFORMATION CONTACT: Requests for additional information or copies of the information collection instrument and instructions should be directed to Clifton Beck, NTIA, Room H-4888, U.S. Department of Commerce, 1401 Constitution Avenue, NW., Washington, DC 20230 (or via the Internet cbeck@ntia.doc.gov).

SUPPLEMENTARY INFORMATION:

I. Abstract

The purpose of the Technology Opportunities Program (TOP), is to promote the use of advanced telecommunications and information technologies in the non-profit and public sectors. These projects encourage the deployment of broadband infrastructure, services, and applications throughout the Nation. TOP projects demonstrate how digital networks support lifelong learning for all Americans, help public safety officials protect the public, assist in the delivery of health care and public health services, and foster communication, resource-sharing, and economic development.

Since 1994, the National Telecommunications and Information Administration (NTIA), in administering TOP, has awarded 610 grants, in all 50 states, the District of Columbia, Puerto Rico and the U.S. Virgin Islands totaling $233.5 million and leveraging $313.7 million in local matching funds. TOP makes matching grants to state, local and tribal governments, non-profit health care providers, schools, libraries, public safety providers, and non-profit community-based, faith-based organizations, national organizations and associations, museums, colleges, universities, or other providers of social services.

In order to ensure TOP's ability to assess the performance of its grants program and to comply with the Government Performance and Results Act, NTIA will collect and analyze quantitative and qualitative data relating to start-up documentation, quarterly and annual progress, and close-out documentation on TOP-funded projects.

NTIA seeks a mechanism whereby it can evaluate the impacts of its projects on an ongoing basis, monitor grants more efficiently and effectively, and provide timely technical assistance to grant recipients. To enable the Program to monitor and to analyze the impacts of the funded projects, TOP seeks to incorporate standardized quantitative and qualitative data elements into an online structured reporting system. The reporting system will include a set of core data elements that apply to all projects.

NTIA is interested in the effects that the funded projects are having at the local level and, over the long term, at the national level. It is NTIA's intention to understand the nature and degree of those effects on the organizations implementing the projects, other organizations that are involved with the projects, the individuals who are served by the projects, and the community as a whole.

II. Method of Collection

Data will be collected through the use of automated collection techniques. The information collection instrument to be used for this study will include a web-based structured reporting system for both quantitative and qualitative project information.

III. Data

OMB Number: 0660-0015.

Form Number: None.

Type of Review: Regular submission.

Affected Public: State and local government, and non-profit institutions.

Estimated Number of Respondents: 50.

Estimated Time Per Response: 20 hours for start-up documentation; 4 hours for progress reports; 30 minutes for annual report; and 20 hours for final closeout report.

Estimated Total Annual Respondent Burden Hours: 1,492.

Estimated Total Annual Cost to the Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents.

Comments submitted in response to this notice will be summarized and/or included in the request of OMB approval of the information collection; they also become a matter of public record.

Dated: January 6, 2005.
Gwellnar Banks,
Management Analyst, Office of the Chief Information Officer.

[FR Doc. 05-563 Filed 1-11-05; 8:45 am]

BILLING CODE 3510-60-P